DEPARTMENT OF THE INTERIOR

Fish and Wildlife Service

[FWS-R8-ES-2008-N0042; 80221-1112-0000-F2]

Tehachapi Uplands Multi-species Habitat Conservation Plan

AGENCY: Fish and Wildlife Service, Interior.

ACTION: Notice of intent.

SUMMARY: Pursuant to the National Environmental Policy Act (NEPA), we, the Fish and Wildlife Service (Service), advise the public of our intent to gather information necessary to prepare an Environmental Impact Statement (EIS) on the Tehachapi Uplands Multi-species Habitat Conservation Plan (MSHCP). Tejon Ranch is preparing the MSHCP to apply for a 50-year incidental take permit under section 10(a)(1)(B) of the Federal Endangered Species Act of 1973, as amended, (Act). The permit is needed to authorize the incidental take of threatened and endangered species that could occur as a result of activities covered by the plan.

The Service provides this notice to (1) describe the proposed action and possible alternatives; (2) advise other Federal and State agencies, affected Tribes, and the public of our intent to prepare an EIS; (3) announce the initiation of a public scoping period; and (4) obtain suggestions and information on the scope of issues to be included in the EIS. A similar Notice of Intent was published on June 25, 2004 (69 FR 35663) when this project was called the Tejon Condor Habitat Conservation Plan. Because the project has been broadened to include additional species, this second Notice of Intent is being published to gather additional information.

DATES: Written comments should be received on or before April 25, 2008.

ADDRESSES: Written comments submitted to Mary Grim, Section 10 Program Coordinator, U.S. Fish and Wildlife Service, 2800 Cottage Way, W-2605, Sacramento, CA 95825. Comments may also be sent by e-mail to: tu_hcp_eis@fws.gov. Comments previously received during the initial public scoping period will also be considered.

FOR FURTHER INFORMATION CONTACT: Mary Grim, U.S. Fish and Wildlife Service, at 916-414-6464.

SUPPLEMENTARY INFORMATION

Background

Section 9 of the Act and Federal regulations prohibit the “take” of wildlife species listed as endangered or threatened (16 U.S.C. 1538). The Act defines the term “take” as: to harass, harm, pursue, hunt, shoot, wound, kill, trap, capture, or collect listed species, or to attempt to engage in such conduct (16 U.S.C. 1532). Harm includes significant habitat modification or degradation that actually kills or injures listed wildlife by significantly impairing essential behavioral patterns, including breeding, feeding, and sheltering [50 CFR 17.3(c)]. Pursuant to section 10(a)(1)(B) of the Act, the Service may issue permits to authorize “incidental take” of listed species. “Incidental Take” is defined by the Act as take that is incidental to, and not the purpose of, carrying out an otherwise lawful activity. Regulations governing permits for threatened species and endangered species, respectively, are at 50 CFR 17.32 and 50 CFR 17.22. All species included on an incidental take permit would receive assurances under the Service's “No Surprises” regulation [50 CFR 17.22(b)(5) and 17.32(b)(5)].

Species proposed for coverage in the HCP are species that are currently listed as federally threatened or endangered or have the potential to become listed during the life of this MSHCP and have some likelihood to occur within the project area. Should any of the unlisted covered wildlife species become listed under the Act during the term of the permit, take authorization for those species would become effective upon listing. Six plant species and 28 animal species are known to occur within the area and would be covered by the MSHCP. Species may be added to or deleted from the list of proposed covered species during the course of the development of the MSHCP based on further analysis, new information, agency consultation, and public comment. Currently, the MSHCP would include the following federally listed animal species: California condor (Gymnogyps californianus), least Bell's vireo (Vireo bellii pusillus), southwestern willow flycatcher (Empidonax traillii extimus), Valley elderberry longhorn beetle (Democerus californicus dimorphus), and Western yellow-billed cuckoo (Coccyzus americanus occidentalis). The MSHCP would also include the following State listed and unlisted species: Tehachapi slender salamander (Batrachoseps stebbinsi), bald eagle (Haliaeetus leucocephalus), American peregrine falcon (Falco peregrines anatum), little willow flycatcher (Empidonax traillii brewsteri), golden eagle (Aquila chrysaetos), white-tailed kite (Elanus leucorux), ringtail (Bassariscus astutus), tricolored blackbird (Agelaius tricolor), California spotted owl (Strix occidentalis occidentalis), Tehachapi pocket mouse (Perognathus alticolus inexpectatus), burrowing owl (Athene cunicularia), yellow-blotched salamander (Ensatina eschscholtzi croceater), western spadefoot (Spea hammondii), purple martin (Progne subis), northern goshawk (Accipiter gentalis), coast horned lizard (frontale and blainvilli populations) (Phrynosoma coronatum), Cooper's hawk (Accipiter cooperii), yellow-breasted chat (Icteria virens), prairie falcon (Falco mexicanus), northern harrier (Circus cyaneus), long-eared owl (Asio otus), two-striped garter snake (Thamnophis hammondii), round-leaved filaree (Erodium macrophyllum), Fort Tejon woolly sunflower (Eriophyllum lanatum var. hallii), Kusche's sandwort (Amenaria macradenia var. kuschei), Tehachapi buckwheat (Eriogonum callistum), American badger (Taxidea taxus), striped adobe lily (Fritillaria striata), and Tejon poppy (Eschscholzia lemmonii ssp. Kernensis).

Activities proposed to be covered by the MSHCP include limited private development; livestock grazing and range management; film production; maintenance and construction of underground utilities; recreation with the exception of hunting; existing commercial and residential improvements; farming and irrigation systems; repair, maintenance, and use of roads; and existing mineral extraction facilities. The MSHCP will propose a conservation strategy to minimize and mitigate to the maximum extent possible any impacts that would occur to covered species as the result of the covered activities.

Environmental Impact Statement

The EIS will consider the proposed action (i.e., the issuance of a section 10(a)1(B) permit under the Act), no action (no section 10 permit), and a reasonable range of alternatives. A detailed description of the proposed action and alternatives will be included in the EIS. The EIS will also identify potentially significant impacts on biological resources, land use, air quality, water resources, transportation, and other environmental resource issues that could occur directly or indirectly with implementation of the proposed action and alternatives. Different strategies for avoiding, minimizing, and mitigating the impacts of incidental take may also be considered.

Environmental review of the EIS will be conducted in accordance with the requirements of NEPA (42 U.S.C. 4321 et seq.), its implementing regulations (40 CFR parts 1500-1508), other applicable regulations, and Service procedures for compliance with those regulations. This notice is being furnished in accordance with 40 CFR Section 1501.7 and 1508.22 to obtain suggestions and information from other agencies and the public on the scope of issues and alternatives to be addressed in the EIS. The primary purpose of the scoping process is to identify important issues raised by the public related to the proposed action. Written comments from interested parties are invited to ensure that the full range of issues related to the permit application is identified. Comments will only be accepted in written form. All comments received, including names and addresses, will become part of the official administrative record and may be made available to the public.

Before including your address, phone number, e-mail address, or other personal identifying information in your comment, you should be aware that your entire comment—including your personal identifying information—may be made publicly available at any time. While you may ask us in your comment to withhold your personal identifying information from public review, we cannot guarantee that we will be able to do so.

Ken McDermond,
Deputy Regional Director, California Nevada Region, Sacramento, California.

[FR Doc. E8-6185 Filed 3-25-08; 8:45 am]

BILLING CODE 4310-55-P